DEPARTMENT OF COMMERCE

National Oceanic and Atmospheric Administration

RIN 0648-XF946

New England Fishery Management Council; Public Meeting

AGENCY: National Marine Fisheries Service (NMFS), National Oceanic and Atmospheric Administration (NOAA), Commerce.

ACTION: Notice of public meeting.

SUMMARY: The New England Fishery Management Council (Council, NEFMC) will hold a two-day meeting to consider actions affecting New England fisheries in the exclusive economic zone (EEZ).

DATES: The meeting will be held on Tuesday, January 30, and Wednesday, January 31, 2018, beginning at 10 a.m. on January 30 and 9 a.m. on January 31.

ADDRESSES: The meeting will be held at the Sheraton Harborside, 250 Market Street, Portsmouth, NH 03801; telephone: (603) 431-2300; online at www.sheratonportsmouth.com.

Council Address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, January 30, 2018

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission (ASMFC) and U.S. Coast Guard. Next, the Council will receive an industry-funded monitoring briefing from GARFO that includes: (1) An update with preliminary results on the agency's electronic monitoring project aboard midwater trawl vessels participating in the Atlantic herring and mackerel fisheries; and (2) information on industry-funded monitoring service providers. The Skate Committee will report next. The Council is expected to initiate Framework Adjustment 6 to the Northeast Skate Complex Fishery Management Plan (FMP) to consider adjustments to the skate wing possession limit.

After a lunch break, members of the public will have the opportunity to speak during an open comment period on issues that relate to Council business but are not included on the published agenda for this meeting. The Council asks the public to limit remarks to 3-5 minutes. The Habitat Committee will report after the public comment period. The Council is scheduled to take final action on coral protection measures for the continental slope and canyons south of Georges Bank in its Omnibus Deep-Sea Coral Amendment. The Council took final action on coral protection measures for the Gulf of Maine in June of 2017. In other habitat-related business, the Council will: (1) Review NMFS's decision on Omnibus Habitat Amendment 2 and discuss how it relates to the Council's 2018 habitat priorities; and (2) review comments on offshore wind projects. The Council then will hear from its Research Steering Committee and first review and possibly approve the committee's recommendations for potential improvements to the Council's research priority-setting process. The Council also will receive an update on issues related to the Northeast Cooperative Research Program and be briefed on management reviews of completed research projects. Following these actions, the Council will adjourn for the day.

Wednesday, January 31, 2018

The second day of the meeting will begin with a closed session in order for the Council to consult on Scientific and Statistical Committee appointments for 2018-20. The first item of business in the open session will be an update on the ongoing external review of Council operations, known as the Council Program Review. Next, the Council will receive a report on the latest meeting of the Northeast Trawl Advisory Panel and discuss several issues related to the workings of the panel, including NEFSC engagement and previous/future studies and projects. This discussion will be followed by a National Fish and Wildlife Foundation-funded report on implementing electronic monitoring in New England's groundfish fishery. The Council then will receive a presentation on the NEFSC's “2007-2015 Final Report on the Performance of the Northeast Multispecies Fishery,” followed by the Scientific and Statistical Committee's report, which is centered on providing overfishing limit and acceptable biological catch recommendations for Atlantic halibut to the Council.

Following a lunch break, the Council will begin its Groundfish Committee report, which will cover recreational fishery measures and the Council's Groundfish Monitoring Amendment 23. On the recreational end, the Council will: (1) Provide recommendations to GARFO on fishing year 2018 recreational measures for Gulf of Maine cod and haddock; (2) possibly consult with GARFO on fishing year 2018 recreational measures for Georges Bank cod; and (3) consider recommending a new control date for the party/charter fishery. Regarding Amendment 23 to the Northeast Multispecies Fishery Management Plan, which is focused on monitoring in the groundfish fishery, the Council will: (1) Receive a progress report on the amendment's development; and (2) discuss the possibility of holding a groundfish workshop or establishing a working group dedicated to monitoring issues. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: January 10, 2018.
Tracey L. Thompson,
Acting Deputy Director, Office of Sustainable Fisheries, National Marine Fisheries Service.

[FR Doc. 2018-00567 Filed 1-12-18; 8:45 am]

BILLING CODE 3510-22-P